NATIONAL COUNCIL ON DISABILITY

Sunshine Act Meetings

Dates and Times December 2, 2010, 9 a.m.-5 p.m. Eastern.

December 3, 2010, 8:30 a.m.-5 p.m. Eastern. Place: Access Board, 1331 F Street, NW., Room 800, Washington, DC 20004.

Status: This meeting will be open to the public.

Matters To Be Considered

December 2

9 a.m.-9:30 a.m. Welcome and Introductions

9:30 a.m.-1 p.m. Strategic Planning

1 p.m.-3 p.m. Forum Planning

3 p.m.-5 p.m. Report and Discussion on Health Care Reform Working Group

December 3

8:30 a.m.-9:30 a.m. To Be Determined

9:30 a.m.-2 p.m. NCD Board Attends State Department Event (off-site—not open to the public)

2:30 p.m.-5 p.m. Open Business

Accommodations: Those needing reasonable accommodations should notify NCD immediately.

Contact Person For More Information: Mark Quigley, Director of Communications, NCD, 1331 F Street, NW., Suite 850, Washington, DC 20004; 202-272-2004, 202-272-2074 (TTY).

Dated: November 9, 2010.
Joan M. Durocher,
Executive Director (Interim).

[FR Doc. 2010-28647 Filed 11-19-10; 4:15 pm]

BILLING CODE 6820-MA-P